SURFACE TRANSPORTATION BOARD

[Docket No. EP 290 (Sub-No. 4)]

Railroad Cost Recovery Procedures—Productivity Adjustment

AGENCY: Surface Transportation Board.

ACTION: Adoption of Railroad Cost Recovery Procedures Productivity Adjustment.

SUMMARY: In a decision served on January 29, 2018, the Surface Transportation Board adopted as final its calculation of the productivity adjustment, with the linking factor for the year 2015, proposed in its September 29, 2017 decision in the same docket. See R.R. Cost Recovery Procedures—Productivity Adjustment, EP 290 (Sub-No. 4), slip op. at 4 (STB served Sept. 29, 2017). The productivity change for 2015, based on changes in input and output levels from 2014, is 0.939, which is a decrease of 7.8% from the rate of productivity growth in 2014 relative to 2013 (1.018). Incorporating the 2015 value with the values from 2011-2014 period produces a geometric average productivity growth of 0.994 for the five-year period 2011-2015, or -0.6% per year.

DATES: Applicability Date: January 29, 2018.

FOR FURTHER INFORMATION CONTACT: Pedro Ramirez, (202) 245-0333. Federal Information Relay Service (FIRS) for the hearing impaired, (800) 877-8339.

SUPPLEMENTARY INFORMATION: Additional information is contained in the Board's decision, which is available on the Board's website, http://www.stb.gov. Copies of the decision may be purchased by contacting the Office of Public Assistance, Governmental Affairs, and Compliance at (202) 245-0238.

Decided: January 25, 2018.
By the Board, Board Members Begeman and Miller.
Jeffrey Herzig,
Clearance Clerk.

[FR Doc. 2018-01966 Filed 1-31-18; 8:45 am]

BILLING CODE 4915-01-P